DEPARTMENT OF ENERGY

Federal Energy Regulatory Commission

Notice of Commissioner and Staff Attendance at North American Electric Reliability Corporation Meetings

The Federal Energy Regulatory Commission (Commission) hereby gives notice that members of the Commission and/or Commission staff may attend the following meetings:

North American Electric Reliability Corporation Member Representatives Committee and Board of Trustees Meetings Board of Trustees Corporate Governance and Human Resources Committee, Compliance Committee, Finance and Audit Committee, and Standards Oversight and Technology Committee Meetings

Fairmont The Queen Elizabeth, 900 René-Lévesque Blvd. West, Montreal, QC H3B 4A5, Canada.

August 14 (7:30 a.m.—5:30 p.m.) and August 15 (8:00 a.m.—1:00 p.m.), 2013

Further information regarding these meetings may be found at: http://www.nerc.com/Pages/Calendar.aspx.

The discussions at the meetings, which are open to the public, may address matters at issue in the following Commission proceedings:

Docket No. RC11-5, North American Electric Reliability Corporation

Docket No. RC13-4, North American Electric Reliability Corporation

Docket No. RR13-3, North American Electric Reliability Corporation

Docket No. RR13-6, North American Electric Reliability Corporation

Docket No. RR13-7, North American Electric Reliability Corporation

Docket No. RD13-9, North American Electric Reliability Corporation

Docket No. RD13-10, North American Electric Reliability Corporation

For further information, please contact Jonathan First, 202-502-8529, or jonathan.first@ferc.gov.

Dated: July 31, 2013.
Kimberly D. Bose,
Secretary.

[FR Doc. 2013-18995 Filed 8-6-13; 8:45 am]

BILLING CODE 6717-01-P